DEPARTMENT OF ENERGY

Federal Energy Regulatory Commission

Combined Notice of Filings #1

Take notice that the Commission received the following electric corporate filings:

Docket Numbers: EC13-144-000.

Applicants: Dynegy Danskammer, L.L.C.

Description: Application For Approval Under Section 203 of the Federal Power Act and Request for Expedited Action of Dynegy Danskammer, L.L.C.

Filed Date: 9/9/13.

Accession Number: 20130909-5257.

Comments Due: 5 p.m. ET 9/30/13.

Take notice that the Commission received the following electric rate filings:

Docket Numbers: ER10-1107-004.

Applicants: Pacific Gas and Electric Company.

Description: Notice of Non-Material Change in Status of Pacific Gas and Electric Company.

Filed Date: 9/6/13.

Accession Number: 20130906-5190.

Comments Due: 5 p.m. ET 9/27/13.

Docket Numbers: ER10-1569-005; ER12-21-010; ER10-2783-006; ER10-2784-006; ER11-2855-010; ER10-2791-006; ER10-2792-006; ER10-1564-006; ER10-1565-006; ER10-2795-006; ER10-2798-006; ER10-1575-004; ER10-2799-006; ER10-2801-006; ER11-3727-006; ER10-1566-006; ER12-2413-004; ER11-2062-006; ER10-2812-005; ER10-1291-007; ER10-2843-004; ER11-2508-005; ER11-2863-004; ER11-4307-006; ER12-1711-006; ER10-2846-006; ER12-261-005; ER10-2871-004; ER13-1136-004; ER10-2875-006; ER10-1568-006; ER10-1581-008; ER10-2876-006; ER10-2878-006; ER10-2879-006; ER10-2880-006; ER10-2888-006; ER13-1745-001; ER13-1803-002; ER13-1788-001; ER13-1789-001; ER13-1790-002; ER10-2896-006; ER10-2913-006; ER13-1791-001; ER13-1792-001; ER13-1746-002; ER10-2914-006; ER13-1799-001; ER13-1801-001; ER13-1802-001; ER10-2916-006; ER10-2915-006; ER12-1525-006; ER12-2019-005; ER10-1582-005; ER12-2398-005; ER11-3459-005; ER10-2931-006; ER13-1965-001; ER10-2969-006; ER11-4308-006; ER11-2805-005; ER10-3143-007; ER10-1580-008; ER11-2856-010; ER13-2107-001; ER13-2020-001; ER13-2050-001; ER11-2857-010; ER10-2947-006.

Applicants: NRG Power Marketing LLC, NRG Power Marketing LLC Agua Caliente Solar, LLC, Arthur Kill Power LLC, Astoria Gas Turbine Power LLC, Avenal Park LLC, Bayou Cove Peaking Power LLC, Big Cajun I Peaking Power LLC, Cabrillo Power I LLC, Cabrillo Power II LLC, Conemaugh Power LLC, Connecticut Jet Power LLC, Cottonwood Energy Company LP, Devon Power LLC, Dunkirk Power LLC, El Segundo Energy Center LLC, El Segundo Power, LLC, Energy Alternatives Wholesale, LLC, Energy Plus Holdings LLC, GenConn Devon LLC, GenConn Energy LLC, GenConn Middletown LLC, GenOn Energy Management, LLC, GenOn Mid-Atlantic, LLC, Green Mountain Energy Company, High Plains Ranch II, LLC, Huntley Power LLC, Independence Energy Group LLC, Indian River Power LLC, Ivanpah Master Holdings, LLC, Keystone Power LLC, Long Beach Generation LLC, Long Beach Peakers LLC, Louisiana Generating LLC, Middletown Power LLC, Montville Power LLC, NEO Freehold-Gen LLC, Norwalk Power LLC, NRG Bowline, LLC, NRG California South LP, NRG Canal LLC, NRG Chalk Point LLC, NRG Delta LLC, NRG Energy Center Dover LLC, NRG Energy Center Paxton LLC, NRG Florida LP, NRG Kendall LLC, NRG Marsh Landing LLC, NRG New Jersey Energy Sales LLC, NRG Potomac River LLC, NRG Power Midwest LP, NRG REMA LLC, NRG Rockford LLC, NRG Rockford II LLC, NRG Solar Alpine LLC, NRG Solar Avra Valley LLC, NRG Solar Blythe LLC, NRG Solar Borrego I LLC, NRG Solar Roadrunner LLC, NRG Sterlington Power LLC, NRG Wholesale Generation LP, Oswego Harbor Power LLC, Reliant Energy Northeast LLC, RRI Energy Services, LLC, Sabine Cogen, LP, Saguaro Power Company, A Limited Partnership, Sand Drag LLC, Solar Partners I, LLC, Solar Partners II, LLC, Solar Partners VIII, LLC, Sun City Project, Vienna Power LLC

Description: Notice of Non-Material Change in Status of NRG MBR Entities et al.

Filed Date: 9/6/13.

Accession Number: 20130906-5203.

Comments Due: 5 p.m. ET 9/27/13.

Docket Numbers: ER10-2719-015; ER10-2718-015; ER10-2633-015; ER10-2570-015; ER10-2717-015; ER10-3140-015; ER13-55-005; ER12-911-005.

Applicants: East Coast Power Linden Holding, L.L.C., Cogen Technologies Linden Venture, L.P., Birchwood Power Partners, L.P., Shady Hills Power Company, L.L.C., EFS Parlin Holdings, LLC, Inland Empire Energy Center, LLC, Homer City Generation, L.P., CPV Sentinel, LLC

Description: Notice of Non-Material Change in Status of the GE Companies.

Filed Date: 9/9/13.

Accession Number: 20130909-5154.

Comments Due: 5 p.m. ET 9/30/13.

Docket Numbers: ER12-1650-004.

Applicants: Maine Public Service Company.

Description: Maine Public Service Company submits Compliance Filing to be effective 7/1/2012.

Filed Date: 9/9/13.

Accession Number: 20130909-5071.

Comments Due: 5 p.m. ET 9/30/13.

Docket Numbers: ER13-1346-000.

Applicants: Mesa Wind Power Corporation.

Description: Mesa Wind Refund Report to be effective N/A.

Filed Date: 9/6/13.

Accession Number: 20130906-5080.

Comments Due: 5 p.m. ET 9/27/13.

Docket Numbers: ER13-1654-001.

Applicants: PJM Interconnection, L.L.C.

Description: PJM Interconnection, L.L.C. submits Compliance filing per August 9, 2013 Order in ER13-1654-000 to be effective 8/9/2013.

Filed Date: 9/6/13.

Accession Number: 20130906-5176.

Comments Due: 5 p.m. ET 9/27/13.

Docket Numbers: ER13-1746-003.

Applicants: NRG Marsh Landing LLC.

Description: NRG Marsh Landing LLC submits Amendment to Notice of Succession to be effective 6/24/2013.

Filed Date: 9/9/13.

Accession Number: 20130909-5262.

Comments Due: 5 p.m. ET 9/30/13.

Docket Numbers: ER13-1865-002.

Applicants: Tesoro Refining & Marketing Company LLC.

Description: Tesoro Refining & Marketing Company LLC submits TSO—Second Amended MBR Filing to be effective 7/30/2013.

Filed Date: 9/9/13.

Accession Number: 20130909-5045.

Comments Due: 5 p.m. ET 9/30/13.

Docket Numbers: ER13-2336-000.

Applicants: Portland General Electric Company.

Description: Portland General Electric Company submits Order No. 764 Compliance Filing to be effective 11/12/2013.

Filed Date: 9/6/13.

Accession Number: 20130906-5183.

Comments Due: 5 p.m. ET 9/27/13.

Docket Numbers: ER13-2338-000.

Applicants: NorthWestern Corporation.

Description: NorthWestern Corporation submits SA 691—Gallatin County—East Belgrade Interchange to be effective 9/9/2013.

Filed Date: 9/6/13.

Accession Number: 20130906-5186.

Comments Due: 5 p.m. ET 9/27/13.

Docket Numbers: ER13-2339-000.

Applicants: Entergy Arkansas, Inc.

Description: Entergy Arkansas, Inc. submits EAI Amended MBR Tariff for MISO to be effective 12/19/2013.

Filed Date: 9/9/13.

Accession Number: 20130909-5000.

Comments Due: 5 p.m. ET 9/30/13.

Docket Numbers: ER13-2340-000.

Applicants: Entergy Gulf States Louisiana, L.L.C.

Description: Entergy Gulf States Louisiana, L.L.C. submits EGSL Amended MBR Tariff for MISO to be effective 12/19/2013.

Filed Date: 9/9/13.

Accession Number: 20130909-5001.

Comments Due: 5 p.m. ET 9/30/13.

Docket Numbers: ER13-2341-000.

Applicants: Entergy Louisiana, LLC.

Description: Entergy Louisiana, LLC submits ELL Amended MBR Tariff for MISO to be effective 12/19/2013.

Filed Date: 9/9/13.

Accession Number: 20130909-5002.

Comments Due: 5 p.m. ET 9/30/13.

Docket Numbers: ER13-2342-000.

Applicants: Entergy Mississippi, Inc.

Description: Entergy Mississippi, Inc. submits EMI Amended MBR Tariff for MISO to be effective 12/19/2013.

Filed Date: 9/9/13.

Accession Number: 20130909-5003.

Comments Due: 5 p.m. ET 9/30/13.

Docket Numbers: ER13-2343-000.

Applicants: Entergy New Orleans, Inc.

Description: Entergy New Orleans, Inc. submits ENOI Amended MBR Tariff for MISO to be effective 12/19/2013.

Filed Date: 9/9/13.

Accession Number: 20130909-5004.

Comments Due: 5 p.m. ET 9/30/13.

Docket Numbers: ER13-2344-000.

Applicants: Entergy Texas, Inc.

Description: Entergy Texas, Inc. submits ETI Amended MBR Tariff for MISO to be effective 12/19/2013.

Filed Date: 9/9/13.

Accession Number: 20130909-5005.

Comments Due: 5 p.m. ET 9/30/13.

Docket Numbers: ER13-2345-000.

Applicants: Entergy Nuclear Palisades, LLC.

Description: Entergy Nuclear Palisades, LLC submits ENP Amended MBR Tariff for MISO to be effective 12/19/2013.

Filed Date: 9/9/13.

Accession Number: 20130909-5006.

Comments Due: 5 p.m. ET 9/30/13.

Docket Numbers: ER13-2346-000.

Applicants: EWO Marketing, LLC.

Description: EWO Marketing, LLC submits EWOM Amended MBR Tariff for MISO to be effective 12/19/2013.

Filed Date: 9/9/13.

Accession Number: 20130909-5007.

Comments Due: 5 p.m. ET 9/30/13.

Docket Numbers: ER13-2347-000.

Applicants: Llano Estacado Wind, LLC.

Description: Llano Estacado Wind, LLC submits LEW Amended MBR Tariff for MISO to be effective 12/19/2013 under ER13-2347. Filing Type: 30.

Filed Date: 9/9/13.

Accession Number: 20130909-5008.

Comments Due: 5 p.m. ET 9/30/13.

Docket Numbers: ER13-2348-000.

Applicants: Northern Iowa Windpower, LLC.

Description: Northern Iowa Windpower, LLC submits NIW Amended MBR Tariff for MISO to be effective 12/19/2013.

Filed Date: 9/9/13.

Accession Number: 20130909-5009.

Comments Due: 5 p.m. ET 9/30/13.

Docket Numbers: ER13-2349-000.

Applicants: EAM Nelson Holding, LLC.

Description: EAM Nelson Holding, LLC submits EAM Nelson MBR Application to be effective 12/19/2013.

Filed Date: 9/9/13.

Accession Number: 20130909-5010.

Comments Due: 5 p.m. ET 9/30/13.

Docket Numbers: ER13-2350-000.

Applicants: RS Cogen, LLC.

Description: RS Cogen, LLC submits RS Cogen MBR Application to be effective 12/19/2013.

Filed Date: 9/9/13.

Accession Number: 20130909-5011.

Comments Due: 5 p.m. ET 9/30/13.

Docket Numbers: ER13-2351-000.

Applicants: Entergy Power, LLC.

Description: Entergy Power, LLC submits EPL Amended MBR Tariff for MISO to be effective 12/19/2013.

Filed Date: 9/9/13.

Accession Number: 20130909-5012.

Comments Due: 5 p.m. ET 9/30/13.

Docket Numbers: ER13-2352-000.

Applicants: Duke Energy Florida, Inc.

Description: Duke Energy Florida, Inc. submits Cancellation of Duke Energy Florida, Inc. Rate Schedule No. 176 to be effective 12/31/2013.

Filed Date: 9/9/13.

Accession Number: 20130909-5049.

Comments Due: 5 p.m. ET 9/30/13.

Docket Numbers: ER13-2353-000.

Applicants: Duke Energy Florida, Inc.

Description: Duke Energy Florida, Inc. submits Cancellation of Duke Energy Florida Rate Schedule No. 106 to be effective 12/31/2013.

Filed Date: 9/9/13.

Accession Number: 20130909-5050.

Comments Due: 5 p.m. ET 9/30/13.

Docket Numbers: ER13-2354-000.

Applicants: PJM Interconnection, L.L.C.

Description: PJM Interconnection, L.L.C. submits First Revised Service Agreement No. 3452; Queue No. Y1-020 to be effective 8/8/2013.

Filed Date: 9/9/13.

Accession Number: 20130909-5069.

Comments Due: 5 p.m. ET 9/30/13.

Docket Numbers: ER13-2355-000.

Applicants: PJM Interconnection, L.L.C.

Description: PJM Interconnection, L.L.C. submits Original Service Agreement No. 3639—Queue Position W4-038 to be effective 8/8/2013.

Filed Date: 9/9/13.

Accession Number: 20130909-5077.

Comments Due: 5 p.m. ET 9/30/13.

Docket Numbers: ER13-2356-000.

Applicants: Midcontinent Independent System Operator, Inc.

Description: Midcontinent Independent System Operator, Inc. submits 09-09-2013 Att O ATXI Annual Rate Clean-Up to be effective 9/10/2013.

Filed Date: 9/9/13.

Accession Number: 20130909-5163.

Comments Due: 5 p.m. ET 9/30/13.

Docket Numbers: ER13-2357-000.

Applicants: ECP Energy I, LLC.

Description: ECP Energy I, LLC submits Cancellation to be effective 9/30/2013.

Filed Date: 9/9/13.

Accession Number: 20130909-5172.

Comments Due: 5 p.m. ET 9/30/13.

Take notice that the Commission received the following electric securities filings:

Docket Numbers: ES13-53-000.

Applicants: Kentucky Utilities Company.

Description: Application of Kentucky Utilities Company under Section 204 of the Federal Power Act for Authority to Issue Short-Term Debt Securities.

Filed Date: 9/6/13.

Accession Number: 20130906-5193.

Comments Due: 5 p.m. ET 9/27/13.

Docket Numbers: ES13-54-000.

Applicants: Louisville Gas & Electric Company.

Description: Application of Louisville Gas and Electric Company under Section 204 of the Federal Power Act for Authority to Issue Short-Term Debt Securities.

Filed Date: 9/6/13.

Accession Number: 20130906-5194.

Comments Due: 5 p.m. ET 9/27/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 9, 2013.
Nathaniel J. Davis, Sr.,
Deputy Secretary.

[FR Doc. 2013-22518 Filed 9-16-13; 8:45 am]

BILLING CODE 6717-01-P